NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On April 11, 2005 and May 2, 2005, the National Science Foundation published notices in the Federal Register of a permit applications received. Permits were issued on June 2, 2005 to:

Tom Yelvington; Permit No. 2006-002.

Tom Yelvington; Permit No. 2006-004.

Tom Yelvington; Permit No. 2006-011.

Tom Yelvington; Permit No. 2006-012.

Doug MacAyeal; Permit No. 2006-023.

Nadene G. Kennedy,
Permit Officer.

[FR Doc. 05-11386 Filed 6-7-05; 8:45 am]

BILLING CODE 7555-01-M